RAILROAD RETIREMENT BOARD

Agency Forms Submitted for OMB Review, Request for Comments

SUMMARY: In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collection of information to determine (1) the practical utility of the collection; (2) the accuracy of the estimated burden of the collection; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

Title and purpose of information collection: Supplemental Information on Accident and Insurance; OMB 3220-0036.

Under Section 12(o) of the Railroad Unemployment Insurance Act (RUIA), the Railroad Retirement Board (RRB) is entitled to reimbursement of the sickness benefits paid to a railroad employee if the employee receives a sum or damages for the same infirmity for which the benefits are paid. Section 2(f) of the RUIA requires employers to reimburse the RRB for days in which salary, wages, pay for time lost or other remuneration is later determined to be payable. Reimbursements under section 2(f) generally result from the award of pay for time lost or the payment of guaranteed wages. The RUIA prescribes that the amount of benefits paid be deducted and held by the employer in a special fund for reimbursement to the RRB.

The RRB currently utilizes Forms SI-1c, Supplemental Information on Accident and Insurance; SI-5, Report of Payments to Employee Claiming Sickness Benefits Under the RUIA; ID-3s, Request for Lien Information—Report of Settlement; ID-3s-1, Lien Information Under Section 12(o) of the RUIA; ID-3u, Request for Section 2(f) Information; ID-30k, Notice to Request Supplemental Information on Injury or Illness; and ID-30k-1, Notice to Request Supplemental Information on Injury or Illness; to obtain the necessary information from claimants and railroad employers. Completion is required to obtain benefits. One response is requested of each respondent.

Previous Requests for Comments: The RRB has already published the initial 60-day notice (79 FR 27940 on May 15, 2014) required by 44 U.S.C. 3506(c)(2). That request elicited no comments.

Information Collection Request (ICR)

Title: Supplemental Information on Accident and Insurance.

OMB Control Number: 3220-0036.

Form(s) submitted: SI-1c, SI-5, ID-3s, ID-3s.1, ID3u, ID-30k, and ID-30k.1.

Type of request: Revision of a currently approved collection.

Affected public: Individuals or Households.

Abstract: The Railroad Unemployment Insurance Act provides for the recovery of sickness benefits paid if an employee receives a settlement for the same injury for which benefits were paid. The collection obtains information that is needed to determine the amount of the RRB's reimbursement from the person or company responsible for such payments.

Changes proposed: The RRB proposes to add Internet versions of Forms ID-3s, and ID-3u.

The burden estimate for the ICR is as follows:

Form No. | Annual responses | Time (minutes) | Burden (hours)
SI-1c | 475 | 5 | 40
SI-5 | 7 | 5 | 1
ID-3s (Paper & Telephone) | 3,000 | 3 | 150
ID-3s (Email) | 1,000 | 3 | 50
ID-3s (Internet) | 2,000 | 3 | 100
ID-3s.1 (Paper & Telephone) | 3,000 | 3 | 150
ID-3u (Paper & Telephone) | 600 | 3 | 30
ID-3u (Email) | 100 | 3 | 5
ID-3u (Internet) | 500 | 3 | 25
ID-30k | 55 | 5 | 5
ID-30k.1 | 65 | 5 | 5
Total | 10,802 |  | 561

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois, 60611-2092 or Charles.Mierzwa@RRB.GOV and to the OMB Desk Officer for the RRB, Fax: 202-395-6974, Email address: OIRA_Submission@omb.eop.gov.

Charles Mierzwa,
Chief of Information Resources Management.

[FR Doc. 2014-17286 Filed 7-22-14; 8:45 am]

BILLING CODE 7905-01-P